DEPARTMENT OF ENERGY

Federal Energy Regulatory Commission

Notice of Intent To File an Application for a New License

July 12, 2000.

a. Type of Filing: Notice of Intent to File An Application for a New License.

b. Project No.: 2194.

c. Date Filed: June 30, 2000.

d. Submitted By: FPL Energy Maine Hydro LLC-current licensee.

e. Name of Project: Bar Mills Hydroelectric Project.

f. Location: On the Saco River near the towns of Hollis and Buxton, in York County, Maine.

g. Filed Pursuant to: Section 15 of the Federal Power Act.

h. Licensee Contact: Frank H. Dunlap, FPL Energy Maine Hydro LLC, 150 Main Street, Lewiston, ME 04240 (207) 771-3534.

i. FERC Contact: Tom Dean, thomas.dean@ferc.fed.us, (202) 219-2778.

j. Effective date of current license: July 1, 1955.

k. Expiration date of current license: June 30, 2005.

l. Description of the Project: The project consists of the following existing facilities: (1) A 25-foot-high, 400-foot-long concrete dam and spillway section topped with 6.75-foot-high steel hinged flashboards; (2) a 263-acre reservoir at a normal pool elevation of 148.5 feet msl; (3) a 725-foot-long power canal; (4) a powerhouse containing two generating units with a total installed capacity of 4,000 kW, (5) a short 38-kV transmission line; and (6) other appurtenances.

m. Each application for a new license and any competing license applications must be filed with the Commission at least 24 months prior to the expiration of the existing license. All applications for license for this project must be filed by June 30, 2003.

Linwood A. Watson, Jr.,
Acting Secretary.

[FR Doc. 00-18067 Filed 7-17-00; 8:45 am]

BILLING CODE 6717-01-M